DEPARTMENT OF THE INTERIOR

Fish and Wildlife Service

[FWS-R1-R-2008-N0298; 1265-0000-10137-S3]

Hanford Reach National Monument; Adams, Benton, Franklin and Grant Counties, WA

AGENCY: Fish and Wildlife Service, Interior.

ACTION: Notice of decision and availability of the record of decision.

SUMMARY: We, the U.S. Fish and Wildlife Service, announce our decision and availability of the Record of Decision (ROD) for the Hanford Reach National Monument (Monument) Final Comprehensive Conservation Plan and Environmental Impact Statement (Final CCP/EIS). The ROD documents our selection of Alternative C-1, the Preferred Alternative in our Final CCP/EIS, for implementation as the Monument's CCP. Alternative C-1 addresses the key issues identified during the planning process and will best achieve the purposes and goals of the Monument as well as the mission of the National Wildlife Refuge System (NWRS). The Monument is located in Adams, Benton, Franklin, and Grant Counties, Washington.

ADDRESSES: A copy of the ROD or Final CCP/EIS may be obtained from Greg Hughes, Project Leader, Mid-Columbia River National Wildlife Refuge Complex, 64 Maple Street, Burbank, Washington 99323, Telephone (509) 546-8300, or from the Monument's Web site: http://hanfordreach.fws.gov.

FOR FURTHER INFORMATION CONTACT: Contact Greg Hughes, Project Leader, phone (509) 546-8300.

SUPPLEMENTARY INFORMATION: The Final CCP/EIS was released to the public and a Notice of Availability was published in the Federal Register on August 15, 2008 (71 FR 74929). A thorough analysis of the environmental, social and economic considerations was completed and presented in the Final CCP/EIS. In this notice, we announce our decision to implement Alternative C-1 as the CCP for the Monument, as documented in the ROD. The ROD was signed by the Fish and Wildlife Service's Regional Director for the Pacific Region, on September 25, 2008.

The CCP will provide management guidance for conserving resources and providing public use activities. This decision includes adoption of stipulations and mitigation measures identified in Alternative C-1 and Appendix I in the Final CCP/EIS. Implementation of the CCP will occur over the next 15 years, depending on future staffing levels and funding.

Factors Considered in Making the Decision

The decision was based on a thorough analysis of the environmental, social and economic considerations presented in the Final CCP/EIS. During the decision-making phase of the CCP process, the Service reviewed and considered: the impacts identified in Chapter 4 of the Draft and Final CCP/EIS; the results of various studies and surveys conducted in conjunction with the Draft and Final CCP/EIS; relevant issues, concerns and opportunities; comments on the Draft CCP/EIS; and other relevant factors, including the purposes for which the Monument was established and statutory and regulatory guidance. Alternative C-1 incorporates several components addressing a variety of needs including fish and wildlife sanctuary, habitat restoration and protection, public safety, and the NWRS's six priority public uses. It is, however, the unique combination of these components that contributes most to achieving the Monument's purposes and goals. Alternative C-1 strengthens the monitoring of fish, wildlife, habitat, and public uses on the Monument, which will provide the means to better respond to rapidly changing conditions within the surrounding environment. Alternative C-1 was selected for implementation because it provides the greatest number of opportunities to contribute to the fish, wildlife and habitat needs of the Mid-Columbia River Basin.

Dated: October 21, 2008.
David J. Wesley,
Acting Regional Director, Region 1, Portland, Oregon.

[FR Doc. E8-28214 Filed 11-26-08; 8:45 am]

BILLING CODE 4310-55-P